DEPARTMENT OF COMMERCE

International Trade Administration

(C-533-844)

Certain Lined Paper Products From India: Notice of Rescission of the 2007 Administrative Review of the Countervailing Duty Order

AGENCY: Import Administration, International Trade Administration, Department of Commerce.

Effective Date: February 26, 2009.

FOR FURTHER INFORMATION CONTACT: Dennis McClure, AD/CVD Operations, Office 3, Import Administration, International Trade Administration, U.S. Department of Commerce, 14th Street and Constitution Avenue, NW, Washington, DC 20230; telephone: (202) 482-5973.

SUPPLEMENTARY INFORMATION:

Background

On September 2, 2008, the Department of Commerce (“the Department”) published a notice of opportunity to request an administrative review of the countervailing duty order on certain lined paper products from India. See Antidumping or Countervailing Duty Order, Finding, or Suspended Investigation; Opportunity to Request Administrative Review, 73 FR 51272 (September 2, 2008). On September 30, 2008, the Association of American School Paper Suppliers (the “Association”), domestic producers of certain lined paper products, requested that the Department conduct an administrative review of Blue Bird India Ltd. (“Blue Bird”) and Navneet Publications (India) Ltd.'s (“Navneet”) exports to the United States for the period of review (“POR”) January 1, 2007, through December 31, 2007. Pursuant to this request, the Department published a notice of the initiation of the administrative review of the countervailing duty order on certain lined paper products from India. See Initiation of Antidumping and Countervailing Duty Administrative Reviews and Deferral of Administrative Review, 73 FR 64305 (October 29, 2008).

Rescission of Review

Pursuant to 19 CFR 351.213(d)(1), the Department will rescind an administrative review, in whole or in part, if a party that requested a review withdraws the request within 90 days of the date of publication of the notice of initiation. On January 27, 2009, the Association timely withdrew its requests for a review of Blue Bird and Navneet, and no other interested party requested a review of these companies. Therefore, the Department is rescinding the administrative review of the countervailing duty order on certain lined paper from India covering the period January 1, 2007, through December 31, 2007, in accordance with 19 CFR 351.213(d)(1).

Assessment

The Department will instruct U.S. Customs and Border Protection (“CBP”) to assess countervailing duties on all appropriate entries. Countervailing duties shall be assessed at rates equal to the cash deposit of estimated countervailing duties required at the time of entry, or withdrawal from warehouse, for consumption, in accordance with 19 CFR 351.212(c)(1)(i). The Department intends to issue appropriate assessment instructions directly to CBP 15 days after the publication of this notice in the Federal Register.

Notification to Interested Parties

This notice also serves as a reminder to parties subject to administrative protective order (“APO”) of their responsibility concerning the disposition of proprietary information disclosed under APO, in accordance with 19 CFR 351.305 and as explained in the APO. Timely written notification of the return/destruction of APO materials or conversion to judicial protective order is hereby requested. Failure to comply with the regulations and the terms of an APO is a sanctionable violation.

This notice is in accordance with sections 751(a)(1) and 777(i)(1) of the Tariff Act of 1930, as amended, and 19 CFR 351.213(d)(4).

Dated: February 20, 2009.
John M. Andersen,
Acting Deputy Assistant Secretary for Antidumping and Countervailing Duty Operations.

[FR Doc. E9-4130 Filed 2-25-09; 8:45 am]

BILLING CODE 3510-DS-S